DEPARTMENT OF HEALTH AND HUMAN SERVICES

Office of Inspector General

Program Exclusions: November 2001

AGENCY: Office of Inspector General, HHS.

ACTION: Notice of program exclusions.

During the month of November 2001, the HHS Office of Inspector General imposed exclusions in the cases set forth below. When an exclusion is imposed, no program payment is made to anyone for any items or services(other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject city, state | Effective date
Program-Related Convictions
Bilenkin, Elana | 12/20/2001
Old Bridge, NJ
Birdsong, Stacie | 12/20/2001
Detroit, MI
Bitz, Jennifer M | 12/20/2001
Jamestown, ND
Boguslavskiy, Vadim | 12/20/2001
Lavenel, NJ
Brown, Maurice Chevale | 12/20/2001
Sterling, CO
Dallakyan, Naira M | 12/20/2001
Pasadena, CA
Greer, J Randall | 12/20/2001
Memphis, TN
Gutman, Marci | 12/20/2001
Miami, FL
Maddox, Yolanda Gail | 12/20/2001
Troy, AL
McDonald, Anita Fletcher | 12/20/2001
Palestine, TX
New York Health Plan | 12/20/2001
New York, NY
Norman, Brigid | 12/20/2001
Riverdale, GA
Paulin, John Gregory | 12/20/2001
Florence, CO
Rapp, Donna Lynn | 12/20/2001
Lakewood, CO
Reyes, Gloria | 12/20/2001
Miami, FL
Rose, Melba L | 12/20/2001
Miami, FL
Scarpitta, Janet | 12/20/2001
Newark, NJ
Stolyar, Yelena | 12/20/2001
Golden, CO
Taylor, Shirley Jean | 12/20/2001
Pearl, MS
Urban, Edward J | 12/20/2001
Chargin Fall, OH
Felony Conviction for Health Care
Brathwaite, Stephen Earl | 12/20/2001
W Valley City, UT
Burstein, Donald A | 12/20/2001
Warminster, PA
Casiano, Janet | 12/20/2001
Carle Place, NY
Fergusson, Olantungie Clarence | 12/20/2001
Sherman Oaks, CA
Oldham, Susan G | 12/20/2001
Lexington, KY
Runk, Lisa D | 12/20/2001
Wichita, KS
Seals, Carlos V | 12/20/2001
Los Angeles, CA
Felony Control Substance Conviction
Davis, Donna K Kidd | 12/20/2001
Somerset, KY
Gleason, Laura Jane | 12/20/2001
Phoenix, AZ
Hendrick, Vickie | 12/20/2001
Gallatin, TN
McMenamin, Deborah J | 12/20/2001
Carbondale, PA
Sommer, Deborah Jane | 12/20/2001
Dayton, TX
Patient Abuse/Neglect Convictions
Barsuk, Joseph Jr | 12/20/2001
Churchville, NY
Boykins, Loretta Penny | 12/20/2001
Baltimore, MD
Cathey, Deborah | 12/20/2001
Nashville, TN
Coleman, Tracy Lavonne | 12/20/2001
Laurora, CO
Conyers, Leonard E | 12/20/2001
Wilmington, DE
Dickinson, Sharon Lee | 12/20/2001
Corunna, MI
Ferdon, Michael Kevin | 12/20/2001
Ontario, OR
Kegel, Alan | 12/20/2001
Wheeling, IL
Lembong, Noky Herems | 12/20/2001
Diamond Bar, CA
Maxian, Therese M | 12/20/2001
Binghamton, NY
Pawlak, Patricia | 12/20/2001
Barker, NY
Quinones, Anel | 12/20/2001
Garfield, NJ
Risley, Charles | 12/20/2001
S Saugerties, NY
Stocker, Charles Edward | 12/20/2001
Lancaster, OH
Thompson, Robert J | 12/20/2001
Raymond, MS
Watson, Marlene Maria | 12/20/2001
Bronx, NY
Conviction for Health Care Fraud
Plyter, Mark | 12/20/2001
Williamson, NY
License Revocation/Suspension/Surrendered
Amundson, Terri Sue | 12/20/2001
Lawrenceville, GA
Banda-Orman, Selina | 12/20/2001
Des Moines, IA
Barolin, Linda | 12/20/2001
Mantua, NJ
Bealer, Mildred Sitch | 12/20/2001
Pottsville, PA
Bell, Donna S | 12/20/2001
Douglas, AK
Bryant, Laurie L | 12/20/2001
Davenport, IA
Burgess, Marleen K | 12/20/2001
Cresco, IA
Carico, Paula J | 12/20/2001
Kendallville, IN
Cigelske, Michael Allen | 12/20/2001
Phoenix, AZ
Duffie, Brenda L | 12/20/2001
Burlington, IA
Dykes, Judy R | 12/20/2001
Phoenix, AZ
Garrett, Herman Alpha | 12/20/2001
Norcross, GA
Harple, Carol Weiler | 12/20/2001
Gordonville, PA
Hernandez, Stephen Louis | 12/20/2001
Hudson, FL
Heuberger, Sally | 12/20/2001
Sheffield, IA
Hummell, Alan | 12/20/2001
Cocoa, FL
Jewkes, Mindy | 12/20/2001
Salt Lake City, UT
Kadish, William A | 12/20/2001
Shrewsbury, MA
Larson, Richard Warren | 12/20/2001
Cherokee Village, AR
Leonard, Rhonda Lynn | 12/20/2001
Tyler, TX
Long, Jill Suzanne | 12/20/2001
W Blocton, AL
Lucero, Glen M | 12/20/2001
Denver, CO
McGraw, Daniel P | 12/20/2001
Haverhill, MA
Milam, Stephen Robert | 12/20/2001
Cicero, IN
Moore, Jerry Gayle | 12/20/2001
Houston, TX
Newman, William T | 12/20/2001
Chapel Hill, NC
Petanovich, E John | 12/20/2001
Emlenton, PA
Peyton, Bret W | 12/20/2001
Iowa Falls, IA
Porter, Mary Jo | 12/20/2001
Norfolk, VA
Rice, Cynthia M | 12/20/2001
Phoenix, AZ
Richardson, Lawrence John | 12/20/2001
Los Angeles, CA
Rollins, Jane | 12/20/2001
Michigan City, IN
Shellhase, Barbara J | 12/20/2001
Cleona, PA
Spencer, Craig A | 12/20/2001
Frankfort, IL
Sugden, Mark F | 12/20/2001
Virginia Beach, VA
Tabotabo, Armando M | 12/20/2001
Keyport, NJ
Vail, Sheree Behr | 12/20/2001
Malvern, PA
Wehby, Michael Daniel | 12/20/2001
Fort Thomas, KY
West, Malynda Susan | 12/20/2001
San Francisco, CA
Fraud/Kickbacks
Rousseau, Andre M | 09/10/2001
Chicago, IL
Entities Owned/Controlled By Convicted
Arroyo Chiropractic | 12/20/2001
Arroyo Grande, CA
Carlin Chiropractic Health Ctr | 12/20/2001
San Antonio, TX
Cosmetic Surgery & Laser Inst | 12/20/2001
Tustin, CA
Gregory W Stephens, D C, P C | 12/20/2001
Houston, TX
Lund Chiropractic | 12/20/2001
Arlington, TX
Martin Family Chiropractic Ctr | 12/20/2001
Cameron Park, CA
Y & L Corporation | 12/20/2001
Denver, CO
Default on Heal Loan
Alams, Humphrey A Jr | 12/20/2001
Seattle, WA
Anillo-Sarmiento, Manuel F | 12/20/2001
Miami, FL
Baron, Spencer H | 12/20/2001
N Miami Beach, FL
Bell, Robert E | 12/20/2001
Phoenix, AZ
Bornstein, Mark L | 12/20/2001
Pembroke Pines, FL
Buckingham, Guy M | 12/20/2001
Orleans, MI
Dauphin, Michelle M | 12/20/2001
Pembroke Pines, FL
Dinozzi, Anthony D | 12/20/2001
Batavia, OH
Dupuis, Edward J | 12/20/2001
Dallas, TX
Evans, Charla J | 12/20/2001
Mobile, AL
Ferguson, Camilla M | 12/20/2001
Fairborn, OH
Fredericks, Duane A | 12/20/2001
Philadelphia, PA
Fryer, Thomas J | 12/20/2001
Ferron, UT
Gilyot, Glenn David Sr | 12/20/2001
New Orleans, LA
Hansen, Hunter J | 12/20/2001
Andrews, NC
Havriliak, Stephen J | 12/20/2001
Huntingdon Valley, PA
Huber, Mark | 12/20/2001
Princeton, MN
Kardelis, Eugene C Jr | 12/20/2001
Nazareth, PA
Kardos, William P | 12/20/2001
Apollo, PA
Knott, Kevin Thomas Jr | 12/20/2001
Oceanside, CA
Kron, Kathy A | 12/20/2001
Norton, MA
Lallouz, Solomon Y | 12/20/2001
Hollywood, FL
Lantz, Larry S | 12/20/2001
Broomall, PA
Leavitt, Albert M Jr | 12/20/2001
Alexandria, VA
Legault, Michelle A | 12/20/2001
Coon Rapids, MN
Leon, Maria I | 12/20/2001
Hollywood, FL
Levy, Richard S | 12/20/2001
Forthee, NJ
Milbourne, Michael W | 12/20/2001
Lafayette Hill, PA
Milot, Sheila Inez | 12/20/2001
Vernon Hills, IL
Moore, Charles E | 12/20/2001
Kansas City, KS
O'Brien, Matthew P | 12/20/2001
Romeo, MI
Parenti, Lisa C | 12/20/2001
Nashville, TN
Parker, Melissa M | 12/20/2001
Clinton, NC
Parsons, Tien M | 12/20/2001
Marathon, FL
Payne, Carrol D | 12/20/2001
Memphis, TN
Pitts, Angela R | 12/20/2001
Odessa, FL
Powell, Michael N | 12/20/2001
Wollaston, MA
Pugh, Melvoria C | 12/20/2001
Mobile, AL
Ray, Donald Elton | 12/20/2001
Orange Beach, AL
Richichi, Mark S | 12/20/2001
Ctr Moriches, NY
Roberts, Pamela | 12/20/2001
Charlotte, NC
Robinson, Cynane Ann Yetta | 12/20/2001
Southfield, MI
Rodebaugh, Cheryl Lynn | 12/20/2001
Denver, CO
Rose, Keith D | 12/20/2001
Big Rapids, MI
Roudebush, Mark D | 12/20/2001
Cordova, TN
Rouselle, Dionne Marie | 12/20/2001
Memphis, TN
Rubinstein, David M | 12/20/2001
Tamarac, FL
Schwirian, Jay A | 12/20/2001
White Oak, PA
Smith, Terrance Herbert | 12/20/2001
Sioux Falls, SD
Smith, William H III | 12/20/2001
Philadelphia, PA
Sparks, Darlene V | 12/20/2001
Annandale, VA
Stevens, Joanne K | 12/20/2001
Broadview Hgts, OH
Strasser, Robert T | 12/20/2001
Lake Zurich, IL
Thompson, Emma R | 12/20/2001
Lithonia, GA
Van Brookhoven, Gloria | 12/20/2001
Atlanta, GA
Vodvarka, James M | 12/20/2001
Steubenville, OH
Webb, James R | 12/20/2001
Shawnee Mission, KS
Wohlschlaeger, Michael Alan | 12/20/2001
Panama City Bch, FL
Wolf, Jacob M | 12/20/2001
Akron, OH
Wright, Bill G | 12/20/2001
Lincoln, NE
Yoder, Patricia L | 12/20/2001
Ocklawaha, FL
Young-Cheney, Joan E | 12/20/2001
Creswell, OR
Peer Review Organization Cases
Hinkley, Bruce Stanton | 11/14/2001
Dallas, TX

Dated: December 3, 2001.
Calvin Anderson, Jr.,
Director, Health Care Administrative Sanctions, Office of Inspector General.

[FR Doc. 01-32156 Filed 12-31-01; 8:45 am]

BILLING CODE 4150-04-P